SMALL BUSINESS ADMINISTRATION

[Declaration of Disaster #3459]

State of Texas

As a result of the President's major disaster declaration on November 5, 2002, I find that Nueces County in the State of Texas constitutes a disaster area due to damages caused by severe storms, tornadoes, and flooding occurring on October 24, 2002, and continuing. Applications for loans for physical damage as a result of this disaster may be filed until the close of business on January 6, 2003 and for economic injury until the close of business on August 5, 2003 at the address listed below or other locally announced locations:

U.S. Small Business Administration, Disaster Area 3 Office, 4400 Amon Carter Blvd., Suite 102, Fort Worth, TX 76155.

In addition, applications for economic injury loans from small businesses located in the following contiguous counties may be filed until the specified date at the above location: Jim Wells, Kleberg and San Patricio in the State of Texas.

The interest rates are:

| Percent
For Physical Damage:
Homeowners with credit available elsewhere | 5.875
Homeowners without credit available elsewhere | 2.937
Businesses with credit available elsewhere | 6.648
Businesses and non-profit organizations without credit available elsewhere | 3.324
Others (including non-profit organizations) with credit available elsewhere | 5.500
For Economic Injury:
Businesses and small agricultural cooperatives without credit available elsewhere | 3.324

The number assigned to this disaster for physical damage is 345911. For economic injury the number is 9S4800.

(Catalog of Federal Domestic Assistance Program Nos. 59002 and 59008).
Dated: November 6, 2002.
Herbert L. Mitchell,
Associate Administrator for Disaster Assistance.

[FR Doc. 02-28877 Filed 11-13-02; 8:45 am]

BILLING CODE 8025-01-P